DEPARTMENT OF DEFENSE

Department of the Army; Corps of Engineers

Deauthorization of Water Resources Projects

AGENCY: Army Corps of Engineers, DoD.

ACTION: Notice of project deauthorizations.

SUMMARY: The Corps of Engineers is publishing the list of water resources projects deauthorized under the provisions of section 1001(b)(2) of the Water Resources Development Act of 1986, Public Law 99-662, as amended, (33 U.S.C 579a(b)(2)), and lists of projects removed from the deauthorization list due to obligations of funds, or deauthorized earlier.

FOR FURTHER INFORMATION CONTACT: Headquarters, U.S. Army Corps of Engineers, Washington, DC 20314-1000, Attention: CECW-IN, Ms. Agnes W. Chen, Tel. (202) 761-4175.

SUPPLEMENTARY INFORMATION: The Water Resources Development Act of 1986, Public Law 99-662, 100 Stat. 4082-4273, as amended, provides for the automatic deauthorization of water resource projects and separable elements of projects.

Section 1001(b)(2), 33 U.S.C. 579a(b)(2), requires the Secretary of the Army to submit to the Congress a biennial list of unconstructed water resources projects and separable elements of projects for which no obligations of funds have been incurred for planning, design or construction during the prior seven full fiscal years. If funds are not obligated within thirty months from the date the list was submitted, the project/separable elements are deauthorized. Notwithstanding these provisions, projects may be specifically deauthorized or reauthorized by law. (Note: The provision of section 1001(b)(2) prior to the 2007 amendments apply to this action.)

For purposes of the Water Resources Development Act of 1986, “separable element” is defined in section 103(f), Public Law 99-662, 33 U.S.C. 2213(f).

In accordance with section 1001(b)(2), the Assistant Secretary of the Army (Civil Works) submitted a list of 31 projects and separable elements to Congress on 29 September 2006. From this list, 27 projects/separable elements were deauthorized on March 29, 2009, 2 were removed due to obligation of funds, and 2 were deauthorized on 02 April 2002 and 01 May 1997 respectively.

District |  | Primary state | Purpose
Projects Deauthorized on 29 March 2009 Under Section 1001(B)(2) WRDA 1986, as Amended
MVM | AUGUSTA TO CLARENDON LEVEE, LOWER WHITE RIVER, AR (UNCOMPLETED PORTION) | AR | FC
MVM | CLARENDON LEVEE, LOWER WHITE RIVER, AR | AR | FC
MVM | WEST MEMPHIS & VICINITY, AR | AR | FC
NAE | HARTFORD | CT | E
NAE | NEW HAVEN | CT | E
MVR | GREEN BAY LEVEE & DRAINAGE DISTRICT NO. 2, IA | IA | FC
NAE | FALL RIVER AND NEW BEDFORD | MA | E
NAE | SAUGUS RIVER AND TRIBUTARIES, MA | MA | FC
NAB | BALTIMORE HARBOR AND CHANNELS, MD & VA (50-FT DEEPENING) | MD | N
NAE | CASCO BAY IN VICINITY OF PORTLAND | ME | E
NAE | PENOBSCOT RIVER IN VICINITY OF BANGOR | ME | E
MVS | COLDWATER CREEK, MO | MO | FC
MVS | MALINE CREEK, MO | MO | FC
NWO | PLATTE RIVER FLOOD & RELATED STREAMBANK EROSION CONTROL, NE | NE | SP
NAE | EPPING | NH | E
NAE | MANCHESTER | NH | E
NAN | NEW YORK HBR AND ADJACENT CHANNELS, CLAREMONT TERMINAL, NJ | NJ | N
NWP | COLUMBIA RIVER, SEAFARER'S MEMORIAL, HAMMOND, OR | OR | N
NAB | TIOGA-HAMMOND LAKES, PA (MILL RUN RECREATION) | PA | FC
NAE | CLIFF WALK, NEWPORT, RI | RI | SP
NAE | NARRAGANSETT BAY IN VICINITY OF PROVIDENCE, RI | RI | E
NAE | NARRAGANSETT BAY OVERPLOW MGMT FACILITY | RI | E
NAE | NARRAGANSETT TOWN BEACH, NARRAGANSETT, RI | RI | N
NAE | QUONSET POINT—DAVISVILLE | RI | N
NWO | GREGORORY COUNTY HYDROELECTRIC PUM STORAGE FACILITY, SD | SD | H
MVM | MUD LAKE PUMPING STATION, TN | TN | FC
MVM | REELFOOT LAKE—LAKE NO 9, TN & KY | TN | FC
| Total: 27
Projects Removed from Deauthorization List Due to Obligations of Funds for Planning, Design or Construction
NAE | BRIDGEPORT | CT | E
LRE | ECORSE CREEK, MI | MI | FC
| Total: 2
Project Deauthorization on 02 April 2002
NWW | LITTLE WOOD RIVER GOODING/SHOSHONE, ID | ID | FC
| Total: 1
Project Deauthorization on 01 May 1997
NWO | OAHE DAM, LAKE OAHE (WILDLIFE RESTORATION), SD & ND | SD | E
| Total: 1

Key To Abbreviations

MVD MISSISSIPPI VALLEY DIVISION

MVM MEMPHIS DISTRICT

MVN NEW ORLEANS DISTRICT

MVS ST. LOUIS DISTRICT

MVK VICKSBURG DISTRICT

MVR ROCK ISLAND DISTRICT

MVP ST. PAUL DISTRICT

NAD NORTH ATLANTIC DIVISION

NAB BALTIMORE DISTRICT

NAN NEW YORK DISTRICT

NAO NORFOLK DISTRICT

NAP PHILADELPHIA DISTRICT

NAE NEW ENGLAND DISTRICT

NWD NORTHWESTERN DIVISION

NWP PORTLAND DISTRICT

NWS SEATTLE DISTRICT

NWW WALLA WALLA DISTRICT

NWK KANSAS CITY DISTRICT

NWO OMAHA DISTRICT

LRD GREAT LAKES & OHIO RIVER DIVISION

LRH HUNTINGTON DISTRICT

LRL LOUISVILLE DISTRICT

LRN NASHVILLE DISTRICT

LRP PITTSBURGH DISTRICT

LRB BUFFALO DISTRICT

LRC CHICAGO DISTRICT

LRE DETROIT DISTRICT

POD PACIFIC OCEAN DIVISION

POA ALASKA DISTRICT

POH HONOLULU DISTRICT

SAD SOUTH ATLANTIC DIVISION

SAC CHARLESTON DISTRICT

SAJ JACKSONVILLE DISTRICT

SAM MOBILE DISTRICT

SAS SAVANNAH DISTRICT

SAW WILMINGTON DISTRICT

SPD SOUTH PACIFIC DIVISION

SPL LOS ANGELES DISTRICT

SPK SACRAMENTO DISTRICT

SPN SAN FRANCISCO DISTRICT

SPA ALBUQUERQUE DISTRICT

SWD SOUTHWESTERN DIVISION

SWF FORT WORTH DISTRICT

SWG GALVESTON DISTRICT

SWL LITTLE ROCK DISTRICT

SWT TULSA DISTRICT

Purpose

E ENVIRONMENTAL RESTORATION

FC FLOOD CONTROL

H WATER SUPPLY

N NAVIGATION

SP EROSION CONTROL

Authority: This notice is required by the Water Resources Development Act of 1986, Public Law 99-662, section 1001(c), 33 U.S.C. 579a(c), and the Water Resources Development Act of 1988, Public Law 100-676, section 52(d), 102 Stat. 4012, 4045.

Terrence C. “Rock” Salt,
Acting Assistant Secretary of the Army (Civil Works).

[FR Doc. E9-15663 Filed 7-1-09; 8:45 am]

BILLING CODE 3710-92-P